DEPARTMENT OF HEALTH AND HUMAN SERVICES

Centers for Disease Control and Prevention

The National Institute for Occupational Safety and Health (NIOSH)

The National Institute for Occupational Safety and Health (NIOSH) of the Centers for Disease Control and Prevention (CDC) announces the following public meetings and request for information:

Name: NIOSH Opportunity to Provide Input for the National Occupational Research Agenda (NORA) with a special emphasis on the Agriculture, Forestry, and Fishing Sector, and the Health Care and Social Assistance Sector, with regional and multi-sector input.

Meeting Dates, Times, and Places: Agriculture, Forestry, and Fishing (AFF) Sector, Tuesday, January 17, 2006, 9 a.m.-5 p.m. pst, 9 a.m.-12 p.m. Multi-Sector Public Comments, 1 p.m.-5 p.m. AFF Specific Public Comments.

Museum of History and Industry (MOHAI, 2700 24th Avenue East, Seattle, WA 98112-2099. And HealthCare and Social Assistance Sector, Monday, January 23, 2006, 9 a.m.-5 p.m. cst, 9 a.m.-12 p.m. Multi-Sector Public Comments, 1 p.m.-5 p.m. HSA Specific Public Comments.

The University of Texas School of Public Health Auditorium, 1200 Herman Pressler, Houston, Texas 77030.

Status: Meetings are open to the public, limited only by the space available.

Background: A large part of our lives is shaped by the work we do. NORA is a framework to guide occupational safety and health research for the nation. It is an ongoing endeavor to focus research to reduce work-related injury and illness. As the program approaches a ten-year milestone, NIOSH is hosting public meetings to seek input from individuals and organizations on important research issues and agendas. Information about the public meetings and registration can be found on the NORA Web page at http://www.cdc.gov/niosh/nora/townhall.

Given that NORA represents a broad-based partnership involving government, business, the worker community, academia, and others, public input is essential for planning future directions for the initiative, which will be based on eight different industry sector groups. Each meeting will be structured to provide an opportunity for regional and multi-sector input during the morning, followed where appropriate by an afternoon session to focus on individual sector issues.

All participants are requested to register for the free meeting at the NORA Web page or onsite the day of the meeting. Participants wishing to speak are encouraged to register early. The public meetings are open to everyone, including all workers, professional societies, organized labor, employers, researchers, health professionals, government officials, and elected officials. Broad participation is desired.

Purpose: The public meetings will address both regional and sector-specific priorities for research. During the morning session, stakeholders will be invited to speak for 5 minutes on an important occupational safety and health issue, including those that occur in multiple sectors. Where noted in the agenda, the afternoon session will focus on sector-specific problems facing the nation. Again, participants will be asked to make 5-minute presentations describing what they perceive to be the top concerns within their sector or sub-sector. Participants are encouraged to attend both the regional and sector-specific sessions, or they may elect to participate in only one session.

Types of occupational safety and health issues might include diseases, injuries, exposures, populations at risk, and needs of occupational safety and health systems. For example, falls from heights might be a top injury issue for the residential construction industry. Low back pain and related back disorders might be a top disease concern for the urban transit industry. If possible, please include as much information as might be useful for understanding the safety or health research priority you identify. Such information could include characterization of the frequency and severity with which the injury, illness, or hazardous exposure is occurring and of the factors you believe might be causing the health or safety issue. Input is also requested on the types of research that you believe might make a difference and the partners (e.g., specific industry associations, labor organizations, research organizations, governmental agencies) who should be involved in informing research efforts and in solving the problem.

All presentations will be entered into the NORA Docket, which is maintained by NIOSH. All comments in the NORA Docket will be used to help shape sector-specific and related cross-sector research agendas for the nation.

These events are part of a series of public meetings which will occur in the months preceding the NORA Symposium (April 18-20, 2006 in Washington, DC). Upcoming meetings will include: Wholesale and Retail Trade; Manufacturing; Mining; Services; Regional Issues; and a summary session. Future Federal Register announcements will provide more information on these meetings. Previous meetings have discussed Transportation, Warehousing, and Utilities, and Construction.

Contact Person for More Information: Sid Soderholm, Ph.D., NORA Coordinator, (202) 401-0721.

Address: Comments may also be e-mailed to niocindocket@cdc.gov, or sent via postal mail to: Docket NIOSH-047, Robert A. Taft Laboratories (C-34), 4676 Columbia Parkway, Cincinnati, OH 45226.

Stakeholders are also invited to submit comments electronically at the NORA Web page http://www.cdc.gov/niosh/nora. Comments submitted to the Web page by others can also be viewed there.

The Director, Management Analysis and Services Office, has been delegated the authority to sign Federal Register Notices pertaining to announcements of meetings and other committee management activities, for both the Centers for Disease Control and Prevention and the Agency for Toxic Substances and Disease Registry.

Dated: December 27, 2005.
B. Kathy Skipper,
Acting Director, Management Analysis and Services Office, Centers for Disease Control and Prevention.

[FR Doc. E5-8192 Filed 12-30-05; 8:45 am]

BILLING CODE 4163-19-P